FEDERAL COMMUNICATIONS COMMISSION

[OMB 3060-1265; FR ID 245960]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.” The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before October 23, 2024.

ADDRESSES: Comments should be sent to www.reginfo.gov/public/do/PRAMain. Find this particular information collection by selecting “Currently under 30-day Review—Open for Public Comments” or by using the search function. Your comment must be submitted into www.reginfo.gov. per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-1265.

Title: Administrative Order—Performance Testing Measures.

Form Number: N/A.

Type of Review: Revision of a currently approved collection.

Respondents: Business or other for-profit.

Number of Respondents and Responses: 1,705 unique respondents; 7,681 responses.

Estimated Time per Response: 15-23 hours.

Frequency of Response: Biennial reporting requirements, quarterly reporting requirements and annual reporting requirements.

Obligation to Respond: Required to obtain or retain benefits. Statutory authority for this information collection is contained in 47 U.S.C. 151-154, 155, 201-206, 214, 218-220, 251, 252, 254, 256, 303(r), 332, 403, 405, 410, and 1302.

Total Annual Burden: 170,620 hours.

Total Annual Cost: No cost.

Needs and Uses: In the USF/ICC Transformation Order, the Commission laid the groundwork for today's universal service programs providing $4.5 billion in support for broadband internet deployment in high-cost areas. Connect America Fund, et al., WC Docket No. 10-90, et al., Report and Order and Further Notice of Proposed Rulemaking, 26 FCC Rcd 17663 (2011) (USF/ICC Transformation Order). The USF/ICC Transformation Order required, among other things, that high-cost universal service recipients “test their broadband networks for compliance with speed and latency metrics and certify to and report the results to the Universal Service Administrative Company (USAC) on an annual basis.” Id. at 17705, para. 109. Pursuant to the Commission's direction in that Order, the Wireline Competition Bureau, the Wireless Telecommunications Bureau, and the Office of Engineering and Technology (the Bureaus and OET) adopted more specific methodologies for such testing in the Performance Measures Order. See generally Performance Measures Order. See also 47 CFR 54.313(a)(6) (requiring that recipients of high-cost support provide “[t]he results of network performance tests pursuant to the methodology and in the format determined by the Wireline Competition Bureau, Wireless Telecommunications Bureau, and Office of Engineering and Technology”). Addressing petitions for reconsideration, the Bureaus and OET adopted certain modifications and clarifications to the requirements pertaining to high-latency bidders in the Connect America Fund (CAF) Phase II auction, and the Commission refined the general testing requirements further. See generally Connect America Fund, WC Docket No. 10-90, Order on Reconsideration, DA 19-911 (WCB/WTB/OET 2019) (Satellite-Related Performance Measures Order); Performance Measures Reconsideration Order. In the High Cost Administrative Order, the Commission adopted a quarterly reporting and certification schedule, replacing the previous annual requirement, such that all carriers receiving high-cost support are required to report and certify their quarterly performance testing results within two weeks, rather than within one week, after the end of the quarter in which the tests are conducted. See High Cost Administrative Order, FCC 25-87, para. 138. Accordingly, this collection includes the requirements for testing speed and latency, and reporting and certifying such performance measures within two weeks after the end of each quarter to ensure that carriers are meeting the public interest obligations associated with their receipt of high-cost universal service support.

Carriers will identify, from among the locations they have already submitted and certified in USAC's High Cost Universal Broadband (HUBB) portal, the locations where they have an active subscriber (deployment locations are reported under OMB Control Number 3060-1228, and active locations will be reported under this control number). From those subscriber locations, USAC will then select a random sample from which the carrier will be required to perform testing for speed and latency. Carriers that do not provide location information in the HUBB will use a randomization tool provided by USAC to select a random sample of locations for testing. Due to the rule changes that the Commission adopted on the High Cost Administrative Order, the carrier will then be required to submit to USAC the results of the testing on a quarterly basis. The quarterly filing will include the testing results from the prior quarter. The carrier's sample for each service tier (e.g. 10 Mbps/1 Mbps, 25 Mbps/3 Mbps) shall be regenerated every two years. During the two-year cycle, carriers will have the ability to add and remove subscriber locations if necessary, e.g., as subscribership changes. Also, in July 2023, the Commission adopted the Enhanced Alternative-Connect America Cost Model (E-ACAM) support mechanism, a new model-based offer to existing Alternative-Connect America Cost Model (A-CAM) I, A-CAM II, and Connect America Fund Broadband Loop Support (CAF BLS) carriers. See Connect America Fund: A National Broadband Plan for Our Future High-Cost Universal Service Support et al., WC Docket No. 10-90 et al., Report and Order, Notice of Proposed Rulemaking, and Notice of Inquiry, FCC 23-60, at 23-24, para. 49 (July 24, 2023) (Enhanced A-CAM Order). Revisions proposed include (1) a process for E-ACAM carriers to get a performance measures testing sample from non-HUBB reported locations, and (2) and reporting and certifying such performance measures within two weeks after the end of each quarter. The proposed revisions also include the retitling of this collection from “Connect America Fund—Performance Testing Measures” to “Administrative Order—Performance Testing Measures.”

The Commission therefore proposes to revise this information collection to reflect these modified requirements.

Federal Communications Commission.
Marlene Dortch,
Secretary,Office of the Secretary.

[FR Doc. 2024-21651 Filed 9-20-24; 8:45 am]

BILLING CODE 6712-01-P